DEPARTMENT OF STATE

[Public Notice 11110]

60-Day Notice of Proposed Information Collection: Repatriation/Emergency Medical and Dietary Assistance Loan Application

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to July 13, 2020.

ADDRESSES: You may submit comments by any of the following methods:

• Web: Persons with access to the internet may comment on this notice by going to www.Regulations.gov. You can search for the document by entering “Docket Number: DOS-2020-0019” in the Search field. Then click the “Comment Now” button and complete the comment form.

• Email: OliphantCE@state.gov.

• Regular Mail: Send written comments to: U.S. Department of State, CA/OCS/MSU, SA-17, 10th Floor, Washington, DC 20522-1710.

You must include the DS form number (if applicable), information collection title, and the OMB control number in any correspondence.

FOR FURTHER INFORMATION CONTACT: Direct requests for additional information regarding the collection listed in this notice, including requests for copies of the proposed collection instrument and supporting documents, to Clifton Oliphant at SA-17, 10th Floor, Washington, DC 20522-1710, who may be reached at OliphantCE@state.gov.

SUPPLEMENTARY INFORMATION: • Title of Information Collection: Repatriation/Emergency Medical and Dietary Assistance Loan Application.

• OMB Control Number: 1405-0150.

• Type of Request: Extension of a Currently Approved Collection.

• Originating Office: Bureau of Consular Affairs, Overseas Citizens Services (CA/OCS).

• Form Number: DS-3072.

• Respondents: U.S. Citizens applying for emergency loan assistance.

• Estimated Number of Respondents: 1,459.

• Estimated Number of Responses: 1,459.

• Average Time per Response: 20 minutes.

• Total Estimated Burden Time: 486 hours.

• Frequency: On Occasion.

• Obligation to Respond: Required to Obtain Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The DS-3072 is an application for an emergency loan for a destitute U.S. citizen and/or eligible family member to return to the United States or for a loan for a destitute U.S. citizen and/or eligible family member abroad to receive emergency medical and dietary assistance.

Methodology

The Bureau of Consular Affairs will post this form on Department of State websites to give respondents the opportunity to print the form and fill it out manually and submit the form in person or by fax or mail.

Zachary Parker,
Director.

[FR Doc. 2020-10259 Filed 5-12-20; 8:45 am]

BILLING CODE 4710-06-P